DEPARTMENT OF DEFENSE

Office of the Secretary

Defense Science Board

AGENCY: Department of Defense.

ACTION: Notice of Advisory Committee meeting date change.

SUMMARY: On Monday, August 22, 2005 (70 FR 48937) the Department of Defense announced open meetings of the Defense Science Board (DSB) Task Force on Manufacturing Technology. The November 2005 meeting dates have been revised from November 2-3, 2005 to November 2, 2005 only. The task force will meet in closed session. The meeting will be held at Strategic Analysis Inc., 3601 Wilson Boulevard, Suite 600, Arlington, VA.

FOR FURTHER INFORMATION CONTACT: LTC Scoot Dolgoff, USA, Defense Science Board, 3140 Defense Pentagon, Room 3C553, Washington, DC 20301-3140, via e-mail at scott.dolgoff@osd.mil, or via phone at (703) 571-0087.

Dated: October 17, 2005.
L.M. Bynum,
Alternate OSD Federal Register, Liaison Officer, Department of Defense.

[FR Doc. 05-21111 Filed 10-20-05; 8:45 am]

BILLING CODE 5001-06-M